DEPARTMENT OF AGRICULTURE

Food Safety and Inspection Service

[Docket No. FSIS-2012-0052]

Codex Alimentarius Commission: Meeting of the Ad Hoc Codex Intergovernmental Task Force on Animal Feeding

AGENCY: Office of the Under Secretary for Food Safety, USDA.

ACTION: Notice of public meeting and request for comments.

SUMMARY: The Office of the Under Secretary for Food Safety, U.S. Department of Agriculture (USDA), and the Center for Veterinary Medicine (CVM), Food and Drug Administration (FDA), are sponsoring a public meeting on January 17, 2013. The objective of the public meeting is to provide information and receive public comments on agenda items and draft United States (U.S.) positions that will be discussed at the 7th Session of the Ad Hoc Codex Intergovernmental Task Force on Animal Feeding (AFTF) of the Codex Alimentarius Commission (Codex), which will be held in Berne, Switzerland, February 4-8, 2013. The Under Secretary for Food Safety and the Center for Veterinary Medicine, Food and Drug Administration, recognize the importance of providing interested parties the opportunity to obtain background information on the 7th Session of the AFTF and to address items on the agenda.

DATES: The public meeting is scheduled for Thursday January 17, 2013, from 1:00 p.m.-3:00 p.m.

ADDRESSES: The public meeting will be held in the Jamie L. Whitten Building, United States Department of Agriculture (USDA), 1400 Independence Avenue SW., Room 107-A, Washington, DC 20250. Documents related to the 7th Session of the AFTF will be accessible via the World Wide Web at the following address: http://www.codexalimentarius.org/meetings-reports/en/

Dr. Daniel McChesney, U.S. Delegate to the 7th Session of the AFTF, invites U.S. interested parties to submit their comments electronically to the following email address Daniel.McChesney@fda.hhs.gov and uscodex@fsis.usda.gov.

Call-In Number

If you wish to participate in the public meeting for the 7th session of the AFTF by conference call, please use the call-in number and participant code listed below.

Call-in Number: 1 (888) 858-2144.

Participant Code: 6208658.

For Further Information About the 7th Session of the AFTF Contact: Dr. Daniel G. McChesney, Director, Office of Surveillance and Compliance, Center for Veterinary Medicine, FDA, 7529 Standish Place, Rockville, MD 20855 Phone: (240) 453-6830, Fax: (240) 453-6880, Email: Daniel.McChesney@fda.hhs.gov.

For Further Information About the Public Meeting Contact: Doreen Chen-Moulec, U.S. Codex Office, 1400 Independence Avenue SW., Room 4861, Washington, DC 20250, Phone: (202) 205-7760, Fax: (202) 720-3157, E-mail: uscodex@fsis.usda.gov.

SUPPLEMENTARY INFORMATION:

Background

Codex was established in 1963 by two United Nations organizations, the Food and Agriculture Organization (FAO) and the World Health Organization (WHO). Through adoption of food standards, codes of practice, and other guidelines developed by its committees, and by promoting their adoption and implementation by governments, Codex seeks to protect the health of consumers and ensure that fair practices are used in trade.

The AFTF is responsible for:

(a) The development of guidelines, intended for governments on how to apply the existing Codex risk assessment methodologies to the various types of hazards related to contaminants/residues in feed ingredients, including feed additives used in feeding stuffs for food producing animals. The guidelines should include specific science-based risk assessment criteria to apply to feed contaminants/residues. These criteria should be consistent with existing Codex methodologies.

The guidelines should also consider the need to address the establishment of rates of transfer and accumulation from feed to edible tissues in animal-derived products according to the characteristics of the hazard.

The guidelines should be drawn up in such a way as to enable countries to prioritize and assess risks based upon local conditions, use, exposure of animals and the impact, if any, on human health.

(b) Develop a prioritized list of hazards in feed ingredients and feed additives for governmental use. The list should contain hazards of international relevance that are reasonably likely to occur, and are thus likely to warrant future attention.

In doing so, due consideration should be given to the prioritized list of hazards as recommended by the FAO/WHO Expert Meeting on Animal Feed Impact on Food Safety. Clear criteria should be used to prioritize the list of hazards and take account of the potential transfer of contaminants/residues in feed to edible animal products (e.g. meat, fish meat, milk and eggs).

The Committee is hosted by Switzerland.

Issues to be Discussed at the Public Meeting

The following items on the agenda for the 7th Session of the AFTF will be discussed during the public meeting:

• Matters referred to the AFTF by Codex and other Codex committees and task forces

• Report on activities of FAO, WHO and other international intergovernmental organizations

• Draft guidelines on application of risk assessment for feed

• Proposed draft guidance for use by governments in prioritizing the national feed hazards

Each issue listed will be fully described in documents distributed, or to be distributed, by the Secretariat prior to the meeting. Members of the public may access copies of these documents (see ADDRESSES).

Public Meeting

At the January 17, 2013, public meeting, draft U.S. positions on the agenda items will be described and discussed, and attendees will have the opportunity to pose questions and offer comments. Written comments may be offered at the meeting or sent to Daniel McChesney, U.S. Delegate for the 7th Session of the AFTF (see ADDRESSES). Written comments should state that they relate to activities of the 7th Session of the AFTF.

Additional Public Notification

FSIS will announce this notice online through the FSIS Web page located at http://www.fsis.usda.gov/regulations_&_policies/Federal_Register_Notices/index.asp.

FSIS will also make copies of this Federal Register publication available through the FSIS Constituent Update, which is used to provide information regarding FSIS policies, procedures, regulations, Federal Register notices, FSIS public meetings, and other types of information that could affect or would be of interest to constituents and stakeholders. The Update is communicated via Listserv, a free electronic mail subscription service for industry, trade groups, consumer interest groups, health professionals, and other individuals who have asked to be included. The Update is also available on the FSIS Web page. In addition, FSIS offers an electronic mail subscription service which provides automatic and customized access to selected food safety news and information. This service is available at http://www.fsis.usda.gov/News_&_Events/Email_Subscription/. Options range from recalls to export information to regulations, directives, and notices. Customers can add or delete subscriptions themselves, and have the option to password protect their accounts.

USDA Nondiscrimination Statement

USDA prohibits discrimination in all its programs and activities on the basis of race, color, national origin, gender, religion, age, disability, political beliefs, sexual orientation, and marital or family status. (Not all prohibited bases apply to all programs.) Persons with disabilities who require alternative means for communication of program information (Braille, large print, or audiotape.) should contact USDA's Target Center at 202-720-2600 (voice and TTY).

To file a written complaint of discrimination, write USDA, Office of the Assistant Secretary for Civil Rights, 1400 Independence Avenue SW., Washington, DC 20250-9410 or call 202-720-5964 (voice and TTY). USDA is an equal opportunity provider and employer.

Done at Washington, DC on: December 21, 2012.
MaryFrances Lowe,
U.S. Manager for Codex Alimentarius.

[FR Doc. 2013-00169 Filed 1-7-13; 8:45 am]

BILLING CODE 3410-DM-P